SOCIAL SECURITY ADMINISTRATION

Agency Information Collection Activities: Proposed Request

In compliance with Public Law 104-13, the Paperwork Reduction Act of 1995, SSA is providing notice of its information collections that require submission to the Office of Management and Budget (OMB). SSA is soliciting comments on the accuracy of the agency's burden estimate; the need for the information; its practical utility; ways to enhance its quality, utility and clarity; and on ways to minimize burden on respondents, including the use of automated collection techniques or other forms of information technology.

The information collections listed below will be submitted to OMB within 60 days from the date of this notice. Therefore, comments and recommendations regarding the information collections would be most useful if received by the Agency within 60 days from the date of this publication. Comments should be directed to the SSA Reports Clearance Officer at the address listed at the end of this publication. You can obtain a copy of the collection instruments by calling the SSA Reports Clearance Officer on (410) 965-4145, or by writing to him at the address listed at the end of this publication.

1. Childhood Disability Evaluation Form—0960-0568. The information collected on form SSA-538 by the Social Security Administration (SSA) is used by SSA and the State Disability Determination Services to record medical and functional findings concerning the severity of impairments of children who are claiming Supplemental Security Income (SSI) benefits based on disability. The form is used for initial determinations of eligibility, in appeals, and in initial continuing disability reviews. We are revising the form in order to make it easier for those who use it to better record their medical and functional findings.

Number of Respondents: 750,000.

Frequency of Response: 1.

Average Burden Per Response: 25 minutes.

Estimated Annual Burden: 312,500 hours.

2. Employment Support Representative Position: Survey of Beneficiaries and Community Organizations—0960-NEW. SSA has created a new position, the Employment Support Representative (ESR) to provide employment support information and counseling to SSA disability beneficiaries and community organizations. The positions are established initially in a pilot program supporting 51 service areas. SSA proposes to test three models, which vary by organizational placement and assigned duties of the ESR. SSA will evaluate the models to determine which model or feature(s) of the model(s) are most effective through information we will collect from individuals and organizations who made contact with, or received services from, ESRs in each of the models during the pilot.

| Individuals | Organizations
Number of Respondents: | 1,332 | 894
Frequency of Response: | 1 | 1
Average Burden Per Response: | 10 minutes | 15 minutes
Estimated Annual Burden: | 222 hours | 224 hours

SSA Address

Social Security Administration, DCFAM, Attn: Frederick W. Brickenkamp, 6401 Security Blvd., 1-A-21 Operations Bldg., Baltimore, MD 21235.

OMB Address

Office of Management and Budget, OIRA, Attn: Desk Officer for SSA, New Executive Office Building, Room 10230, 725 17th St., NW, Washington, D.C. 20503.

Dated: July 11, 2000.
Frederick W. Brickenkamp,
Reports Clearance Officer, Social Security Administration.

[FR Doc. 00-17851 Filed 7-13-00; 8:45 am]

BILLING CODE 4191-02-P